DEPARTMENT OF COMMERCE

Foreign-Trade Zones Board

T-2-2007

Foreign-Trade Zone 26 - Atlanta, GA, Application for Expansion of Temporary/Interim Manufacturing Authority, Perkins Shibaura Engines LLC (Diesel Engines), Griffin, GA, Notice of Approval

On April 24, 2007, an application was filed by the Executive Secretary of the Foreign-Trade Zones (FTZ) Board submitted by Georgia Foreign-Trade Zone, Inc., grantee of FTZ 26, requesting expanded authority (up to 50,000 diesel engines annually; expanded list of foreign-origin components) for temporary/interim manufacturing (T/IM) under FTZ procedures within FTZ 26 Site 6 at the Perkins Shibaura Engines LLC facility in Griffin, Georgia.

The application has been processed in accordance with T/IM procedures, as authorized by FTZ Board Orders 1347 (69 FR 52857, 8-30-2004) and 1480 (71 FR 55422, 9-22-2006), including notice in the Federal Register inviting public comment (72 FR 21217-21218, 4-30-2007). The FTZ staff examiner reviewed the application and determined that it meets the criteria for approval under T/IM procedures. The additional foreign-origin components approved for this activity are: tubes/hoses/pipes of rubber (HTSUS 4009.11, 4009.31, 4009.32, 4009.41); transmission/V-belts (4010.31, 4010.32); flanges (7307.91); spring/lock washers (7318.21); cotter pins (7318.24); dowel pins and keys, pin springs (7318.29); cooling fans (8414.59); holders (8414.90); air filters (8421.31); gears, gearboxes, speed changers, torque converters, ball/roller screws (8483.40); generators (8511.50); ignition parts (8511.90); electrical switches (8536.50) and connectors (8544.42); and, process control instruments (9032.89).

Pursuant to the authority delegated to the FTZ Board Executive Secretary in the above-referenced Board Orders, the application is approved, subject to the FTZ Act and the Board's regulations, including Section 400.28.

Dated: July 9, 2007.
Andrew McGilvray,
Executive Secretary.

[FR Doc. E7-14323 Filed 7-23-07; 8:45 am]

BILLING CODE 3510-DS-S